DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-0361.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Generic Clearance for Grant Program Monitoring Activities

To carry out OMB Circular A-102 ¹ and 2 CFR part 215.51 ², SAMHSA must collect grant program information necessary to ensure compliance with Federal and programmatic requirements. The Generic Clearance for Grant Program Monitoring Activities allows SAMHSA to collect standardized information from its grant recipients necessary to perform agency program oversight activities such as monitoring progress on recipient activities and determining and responding to recipient's training and technical assistance (T/TA) needs. SAMHSA currently manages grant programs that provide prevention, treatment, recovery support services, and T/TA for substance use treatment and mental health providers along the continuum of care including prevention, harm reduction, treatment, and recovery.

¹ Circular A-102: https://www.whitehouse.gov/wp-content/uploads/legacy_drupal_files/omb/circulars/A102/a102.pdf.

² 2 CFR part 215.51: https://www.govinfo.gov/content/pkg/CFR-2012-title2-vol1/pdf/CFR-2012-title2-vol1-subtitleA.pdf.

SAMHSA's grant recipients are currently required to submit various types of performance reports in accordance with their individual program requirements. The data collections will be designed to standardize program monitoring and performance reports of SAMHSA's grants. Program offices will use information collected under this generic clearance to monitor funding recipient activities and to provide support or take appropriate action, as needed.

A generic clearance would provide SAMHSA's program offices the flexibility to create and use tailored information collection templates based on current program reporting requirements. This is important to allow for SAMHSA's:

• Monitoring of compliance with federal practice, guidelines, and requirements,

• Oversight of the implementation of the scope of the grant activities with the grant recipients' proposed project,

• Assessment of the efficiency and efficacy of recipient activities,

• Quick understanding of and remediation to national, regional, and/or site-specific issues,

• Provision of additional support and technical assistance, as needed,

• Documentation of promising practices, innovative services, and program strengths, and

• Flexible and responsive oversight of federal funds.

A variety of performance reports will be used for collection. Program offices will use information collected under this generic clearance to monitor funding recipient activities and to provide support or take appropriate action, as needed.

A variety of instruments and platforms will be used to collect information from respondents. The annual burden hours requested (180,000) are based on the number of collections we expect to conduct over the requested period for this clearance.

The estimated annual hour burden is as follows:

Type of respondent | Number of respondents | Responses per respondent | Total responses | Hours per response | Total annual burden hours | Hourly wage cost | Total hour cost
Progress Report Template (Annual) | 4,000 | 1 | 4,000 | 8 | 32,000 | $26 | $832,000
Progress Report (Interim) | 2,500 | 2 | 5,000 | 6 | 30,000 | 26 | 780,000
Grant Closeouts | 1,000 | 1 | 1,000 | 10 | 10,000 | 26 | 260,000
Site Visit Report Template | 4,000 | 1 | 4,000 | 6 | 24,000 | 26 | 624,000
Other | 4,000 | 1 | 4,000 | 6 | 24,000 | 26 | 624,000
Total | 20,000 |  | 28,000 |  | 180,000 |  | 3,120,000

Send comments to Carlos Graham, SAMHSA Reports Clearance Officer, 5600 Fishers Lane, Room 15E57-A, Rockville, Maryland 20857, OR email a copy to carlos.graham@samhsa.hhs.gov. Written comments should be received by June 12, 2023.

Alicia Broadus,
Public Health Advisor.

[FR Doc. 2023-07771 Filed 4-12-23; 8:45 am]

BILLING CODE 4162-20-P